DEPARTMENT OF COMMERCE

Patent and Trademark Office

Submission for OMB Review; Comment Request; Patent Law Treaty

The United States Patent and Trademark Office (USPTO) will submit to the Office of Management and Budget (OMB) for clearance the following proposal for collection of information under the provisions of the Paperwork Reduction Act (44 U.S.C. Chapter 35).

Agency: United States Patent and Trademark Office, Commerce.

Title: Patent Law Treaty.

OMB Control Number: 0651-0073.

Form Number(s): No form numbers.

Type of Request: Regular.

Number of Respondents: 500.

Estimated Average Hours per Response: The USPTO estimates that it will take approximately 1 hour (60 minutes) to complete the information in this collection, including the time it takes for reading the instructions for the forms, gathering the necessary information, completing the forms, and submitting them to the USPTO.

Burden Hours: 500 burden hours.

Cost Burden: $748,064.50.

Needs and Uses: The Patent Law Treaties Implementation Act of 2012 (PLTIA) amends the patent laws to implement the provisions of the Patent Law Treaty (PLT) in title II. The PLT harmonizes and streamlines formal procedures pertaining to the filing and processing of patent applications.

As covered in the final rule titled, “Changes to Implement the Patent Law Treaty” (RIN 0651-AC85), the USPTO adopted the rules of practice for consistency with the PLT and title II of the PLTIA. The information in this collection relates to the petitions for restoration that may be filed in accordance with the revised rules.

The information in this collection can be submitted electronically through EFS-Web, the USPTO's Web-based electronic filing system, as well as on paper. The USPTO is therefore accounting for both electronic and paper submissions in this collection.

Frequency: On occasion.

Respondent's Obligation: Required to Obtain or Retain Benefits.

OMB Desk Officer: Kimberly Keravuori, email: Kimberly_R_Keravuori@omb.eop.gov.

Once submitted, the request will be publicly available in electronic format through www.reginfo.gov. Follow the instructions to view Department of Commerce collections currently under review by OMB.

Further information can be obtained by:

• Email: InformationCollection@uspto.gov. Include “0651-0073 copy request” in the subject line of the message.

• Mail: Marcie Lovett, Records Management Division Director, Office of the Chief Information Officer, United States Patent and Trademark Office, P.O. Box 1450, Alexandria, VA 22313-1450.

Written comments and recommendations for the proposed information collection should be sent on or before November 28, 2016 to Kimberly Keravuori, OMB Desk Officer, via email to Kimberly_R_Keravuori@omb.eop.gov, or by fax to 202-395-5167, marked to the attention of Kimberly Keravuori.

Dated: October 20, 2016.
Marcie Lovett,
Records Management Division Director, USPTO, Office of the Chief Information Officer.

[FR Doc. 2016-25949 Filed 10-26-16; 8:45 am]

BILLING CODE 3510-16-P